DEPARTMENT OF ENERGY

Federal Energy Regulatory Commission

[Docket No. RP02-118-000]

High Island Offshore System, L.L.C.; Notice of Tariff Filing

December 11, 2001.

Take notice that on December 4, 2001, High Island Offshore System, L.L.C. (HIOS) tendered for filing as part of its FERC Gas Tariff, Third Revised Volume No. 1, the following tariff sheets, with an effective date of January 4, 2002:

Fourth Revised Sheet No. 2

Fifth Revised Sheet No. 171

Third Revised Sheet No. 172

HIOS states that the tariff sheets are being filed to implement the ability for HIOS to enter into negotiated rate agreements.

HIIOS states that copies of its filing has been mailed to each of HIOS' customers and the affected state regulatory commissions.

Any person desiring to be heard or to protest said filing should file a motion to intervene or a protest with the Federal Energy Regulatory Commission, 888 First Street, NE., Washington, DC 20426, in accordance with § 385.214 or § 385.211 of the Commission's rules and regulations. All such motions or protests must be filed in accordance with § 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-31081 Filed 12-17-01; 8:45 am]

BILLING CODE 6717-01-P